DEPARTMENT OF HEALTH AND HUMAN SERVICES

Centers for Disease Control and Prevention

[60Day-02-02]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: U.S. Action Plan for Laboratory Containment of Wild Polio viruses: A Pilot Study—New—National Vaccine Program Office (NVPO), Centers for Disease Control and Prevention (CDC). Global polio eradication is anticipated within the next few years. The only sources of wild polio virus will be in biomedical laboratories. Prevention of inadvertent transmission of polio viruses from the laboratory to the community is crucial.

The first step toward prevention is a national survey of all biomedical laboratories. The survey will alert laboratories to the impending eradication of polio, encourage the disposition of all unneeded wild polio virus infectious and potentially infectious materials, and establish a national inventory of laboratories retaining such materials. Laboratories on the inventory will be kept informed of polio eradication progress and notified, when necessary, to implement bio-safety requirements appropriate for the risk of working with such materials.

An estimated 15,000 biomedical laboratories, in six categories of institutions: academic, federal government, hospital, industry, private, and state and local government facilities, will be included in the final survey. We propose conducting pilot studies in 525 biomedical laboratories representing the above six categories. Specific survey strategies for each category will be refined through these pilot surveys. Three types of biomedical laboratories within each institutional category will be targeted by the pilot survey: those most likely to possess wild polio virus materials; those least likely to possess wild polio virus materials; and those that may possess wild polio virus materials.

The survey instruments will ask laboratories to indicate whether or not they possess wild polio virus infectious and/or potentially infectious materials. If such materials are present, respondents are asked to indicate the types of materials and estimated numbers retained. Survey instruments will be available on the NVPO web page, and institutions will be encouraged to submit completed survey forms electronically. There are no costs to respondents.

Respondents | Number of responses | Respondents/respondent | Avg burden/ response (in hours) | Total burden (in hours)
Labs most likely to possess | 175 | 1 | 1 | 175
Labs least likely to possess | 175 | 1 | 30/60 | 88
Labs that may possess | 175 | 1 | 45/60 | 131
Total |  |  |  | 394

Dated: October 4, 2001.
Nancy E. Cheal,
Acting Associate Director for Policy, Planning and Evaluation, Centers for Disease Control and Prevention.

[FR Doc. 01-25563 Filed 10-10-01; 8:45 am]

BILLING CODE 4163-18-P